DEPARTMENT OF HEALTH AND HUMAN SERVICES

Health Care Financing Administration

42 CFR Parts 416, 482, and 485

RIN 0938-AK08

Medicare and Medicaid Programs: Hospital Conditions of Participation: Anesthesia Services: Delay of Effective Date

AGENCY: Health Care Financing Administration, (HCFA), Department of Health and Human Services (DHHS).

ACTION: Final Rule; Delay of Effective Date.

SUMMARY: To give the Department an opportunity to obtain comment on modifications to the rule entitled Medicare and Medicaid Programs: Hospital Conditions of Participation: Anesthesia Services, the Department is delaying until November 14, 2001 the effective date of the rule, which was published in the Federal Register on January 18, 2001, 66 F.R. 4674, pending the Department's action on a forthcoming notice of proposed rulemaking. The rule's effective date was previously delayed by 60 days on March 19, 2001, in accordance with the memorandum of January 20, 2001, from the Assistant to the President and Chief of Staff, entitled A Regulatory Review Plan, published in the Federal Register on January 24, 2001. See 66 F.R. 15352.

DATES: The final rule, Medicare and Medicaid Programs; Hospital Conditions of Participation; Anesthesia Services, published in the Federal Register on January 18, 2001, at 66 FR 4674 and delayed on March 19, 2001 at 66 FR 15352 until May 18, 2001 is further delayed until November 14, 2001.

FOR FURTHER INFORMATION CONTACT: Stephanie Dyson, Health Care Financing Administration, (410) 786-9226.

SUPPLEMENTARY INFORMATION: On January 18, 2001, the Department of Health and Human Services (DHHS) published in the Federal Register a Final Rule, with an effective date of March 19, 2001 (66 F.R. 4674), intended to amend Subpart D of 42 CFR part 482, Subpart C of 42 CFR part 416, and Subpart F of 42 CFR part 485 of the Code of Federal Regulations.

The Department has determined that there is a need to delay this rule's effective date in order to consider (1) whether a Governor may certify to the Department, after consultation with the State's Boards of Medicine and Nursing, or their equivalents, and consistent with State law, that it is in the best interests of the citizens of the State that licenced Certified Registered Nurse Anesthetists (CRNAs) within the State administer anesthesia services without physician supervision, and (2) whether a prospective study should be undertaken to assess the impact of different state CRNA practices. The Department will, therefore, very shortly issue a proposed rule to afford the public the opportunity to comment on these changes.

The notice and comment requirements of 5 U.S.C. 553 do not apply to this delay of the rule's effective date, which is a rule of procedure. See 5 U.S.C. 553(b)(3)(A). To the extent that section 553 applies in these circumstances, however, the Department finds that the action comes within that provision's good cause exceptions in that obtaining public comment is impracticable, unnecessary, and contrary to the public interest. See 5 U.S.C. 553(b)(3)(B). Given the imminence of the effective date, and the imminence of a new notice of proposed rulemaking, seeking prior public comment on this delay is impracticable, as well as contrary to the public interest in the orderly promulgation and implementation of regulations. Further, comment is unnecessary because no harm is caused by delay of the effective date of the regulations, as the current rules will remain in effect pending any further action by the Department, and any action taken will be subject to notice and comment before final publication.

Dated: May 16, 2001.
Tommy G. Thompson,
Secretary.

[FR Doc. 01-12765 Filed 5-17-01; 8:45 am]

BILLING CODE 4120-01-P